DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will be used to generate an annual Energy and Jobs Report. The rapidly changing nature of energy production, distribution, and consumption throughout the U.S. economy is having a dramatic impact on job creation, workforce training and economic competitiveness, but is inadequately understood and, in some sectors, incompletely measured.

DATES: Comments regarding this collection must be received on or before May 28, 2016. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503. And to Cynthia Anderson by email at Cynthia.Anderson@NNSA.Doe.Gov.

FOR FURTHER INFORMATION CONTACT: Requests for additional information or copies of the information collection instrument and instructions should be directed to Cynthia Anderson by email at Cynthia.Anderson@NNSA.Doe.Gov or by telephone at 202-586-2061.

SUPPLEMENTARY INFORMATION: This information collection request contains: (1) OMB No. {“New”} (2) Information Collection Request Title: Energy and Jobs Survey; (3) Type of Request: New; (4) Purpose: The rapidly changing nature of energy production, distribution, and consumption throughout the U.S. economy is having a dramatic impact on job creation, workforce training and economic competitiveness, but is inadequately understood and, in some sectors, incompletely measured. The new Energy and Jobs Survey will collect data from establishments in in-scope industries, quantifying and qualifying employment among energy activities, workforce demographics and the establishment's perception on the difficulty of recruiting qualified workers. The data will be used to generate an annual Energy and Jobs Report; (5) Annual Estimated Number of Respondents: 30,000; (6) Annual Estimated Number of Total Responses: 10,000; (7) Annual Estimated Number of Burden Hours: 2,908.4; (8) Annual Estimated Reporting and Recordkeeping Cost Burden: 0.

Statutory Authority: Sec. 301 of the Department of Energy Organization Act (42 U.S.C. 7151); sec. 5 of the Federal Energy Administration Act of 1974 (15 U.S.C. 764); and sec. 103 of the Energy Reorganization Act of 1974 (42 U.S.C. 5813).

Issued in Washington, DC on April 27, 2016.
Cynthia V. Anderson,
Senior Advisor, Office of the Secretary.

[FR Doc. 2016-10537 Filed 5-4-16; 8:45 am]

BILLING CODE 6450-01-P